NUCLEAR REGULATORY COMMISSION

[Docket No. 50-333; NRC-2016-0071]

Entergy Nuclear Operations, Inc.; James A. FitzPatrick Nuclear Power Plant

AGENCY: Nuclear Regulatory Commission.

ACTION: License amendment application; withdrawal by applicant.

SUMMARY: The U.S. Nuclear Regulatory Commission (NRC) has granted the request of Entergy Nuclear Operations, Inc. (Entergy, the licensee), to withdraw its application dated August 20, 2015, for a proposed amendment to Renewed Facility Operating License No. DPR-59, for the James A. FitzPatrick Nuclear Power Plant (JAF), located in Oswego County, New York. The proposed amendment would have revised the JAF Technical Specification (TS) to extend primary containment Type A and Type C leak rate test frequencies.

ADDRESSES: Please refer to Docket ID NRC-2016-0071 when contacting the NRC about the availability of information regarding this document. You may obtain publicly-available information related to this document using any of the following methods:

• Federal Rulemaking Web site: Go to http://www.regulations.gov and search for Docket ID NRC-2016-0071. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: William Huffman, Office of Nuclear Reactor Regulation, U.S. Nuclear Regulatory Commission, Washington, DC 20555-0001; telephone: 301-415-2046; email: William.Huffman@nrc.gov.

SUPPLEMENTARY INFORMATION: The NRC has granted the request of Entergy to withdraw its August 20, 2015, application (ADAMS Accession No. ML15232A761) for proposed amendment to Renewed Facility Operating License No. DPR-59 for the JAF, located in Oswego County, New York.

The amendment would have revised TS 5.5.6, “Primary Containment Leak Rate Testing Program,” to allow permanent extension of the Type A Primary Containment Integrated Leak Rate Test interval to 15 years and to allow extension of Type C Local Leak Rate Test testing interval up to 75 months. Entergy withdrew the license amendment request because it intends to permanently cease power operations at JAF at the end of the current operating cycle and, therefore, no longer needs to change the primary containment leak rate test frequencies.

The Commission had previously issued a Notice of Consideration of Issuance of Amendment published in the Federal Register on October 13, 2015 (80 FR 61480). However, by letter dated March 14, 2016 (ADAMS Accession No. ML16074A371), the licensee requested to withdraw the proposed amendment.

Dated at Rockville, Maryland, this 29th day of March, 2016.
For the Nuclear Regulatory Commission.
William C. Huffman,
Project Manager, Plant Licensing IV-2 and Decommissioning Transition Branch, Division of Operating Reactor Licensing, Office of Nuclear Reactor Regulation.

[FR Doc. 2016-07639 Filed 4-1-16; 8:45 am]

BILLING CODE 7590-01-P